DEPARTMENT OF DEFENSE

Office of the Secretary

[Docket ID: DOD-2010-OS-0060]

Privacy Act of 1974; Systems of Records

AGENCY: Defense Logistics Agency, DoD.

ACTION: Notice to amend a system of records.

SUMMARY: The Defense Logistics Agency proposes to amend a system of records notice in its existing inventory of records systems subject to the Privacy Act of 1974, (5 U.S.C. 552a), as amended.

DATES: This proposed action will be effective without further notice on June 7, 2010, unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Jody Sinkler at (703) 767-5045.

SUPPLEMENTARY INFORMATION: The Defense Logistics Agency systems of records notices subject to the Privacy Act of 1974, (5 U.S.C. 552a), as amended, have been published in the Federal Register and are available from the Chief Privacy and FOIA Officer, Headquarters Defense Logistics Agency, ATTN: DGA, 8725 John J. Kingman Road, Suite 1644, Fort Belvoir, VA 22060-6221.

The specific changes to the record system being amended are set forth below followed by the notice, as amended, published in its entirety. The proposed amendment is not within the purview of subsection (r) of the Privacy Act of 1974 (5 U.S.C. 552a), as amended, which requires the submission of new or altered systems reports.

Dated: May 4, 2010.
Mitchell S. Bryman,
Alternate OSD Federal Register Liaison Officer, Department of Defense.

S600.20

SYSTEM NAME:

DLA Fire and Emergency Services Program Records (June 5, 2006; 71 FR 32325).

CHANGES:

* * * * *

SYSTEM LOCATION:

Delete entry and replace with “Defense Supply Center Richmond (DSCR), 8000 Jefferson Davis Highway, Richmond, VA 23297-5000.

Defense Supply Center Columbus (DSCC), 3990 East Broad Street, Columbus, OH 43218-3990.

Defense Distribution Depot Susquehanna (DDSP), 2001 Mission Drive, Building 911, New Cumberland, PA 17070-5000.

Defense Distribution Depot San Joaquin (DDJC), 25600 S. Chrisman Road, Tracy, CA 95304.”

CATEGORIES OF INDIVIDUALS COVERED BY THE SYSTEM:

Delete entry and replace with “Individuals assigned fire and emergency services duties within the Defense Logistics Agency (DLA).”

CATEGORIES OF RECORDS IN THE SYSTEM:

Delete entry and replace with “Individual's name, Social Security Number (SSN), home address and telephone number, education and training data, professional certifications, employee number, station number, emergency notification data, and driver's license number and expiration date.”

* * * * *

PURPOSE(S):

Delete entry and replace with “Records are used to manage the DLA Fire and Emergency Services Program; to provide data concerning professional qualifications, training requirements, and the health and readiness of the DLA Fire and Emergency Services personnel. Records are used for identification, credentialing and interoperability with organizations beyond DoD and DLA. Records are also used for emergency notification in case of an accident or casualty.”

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, these records may specifically be disclosed outside the DoD as a routine use pursuant to 5 U.S.C. 552a(b)(3) as follows:

To Federal and nonfederal schools, academies, and similar institutions for training or certification purposes concerning the professional qualifications, and training requirements of DLA firefighters.

To local fire departments for training or assistance in fire fighting operations.

To local hospitals and medical personnel for emergency treatment in case of accident or casualty.

To the General Services Administration and the U.S. Departments of Interior and Agriculture when responding to forest, acreage, or building fires or emergencies on Federally owned or controlled property.

To the Environmental Protection Agency in situations involving hazardous materials or chemical, biological, radiological, nuclear, and explosives incidents.

To Federal, State, or local disaster relief agencies for the purpose of providing mutual aid.

The DoD ‘Blanket Routine Uses’ set forth at the beginning of DLA's compilation of systems of records notices apply to this system.”

* * * * *

SAFEGUARDS:

Delete entry and replace with “Records are accessible only to the custodian of the records or by persons responsible for servicing the record system in performance of their official duties. Electronic files are deployed on accredited systems with access restricted to authorized users. Records are stored in locked cabinets or rooms and are controlled by personnel screening and computer software. All individuals granted access to this system of records have received Privacy Act training.”

* * * * *

SYSTEM MANAGER(S) AND ADDRESS:

Delete entry and replace with “Chief of Fire and Emergency Services, Defense Supply Center Richmond (DSCR), 8000 Jefferson Davis Highway, Richmond, VA 23297-5000.

Chief of Fire and Emergency Services, Defense Supply Center Columbus (DSCC), 3990 East Broad Street, Columbus, OH 43218-3990.

Chief of Fire and Emergency Services, Defense Distribution Depot Susquehanna (DDSP), 2001 Mission Drive, Building 911, New Cumberland, PA 17070-5000.

Chief of Fire and Emergency Services, Defense Distribution Depot San Joaquin (DDJC), 25600 S. Chrisman Road, Tracy, CA 95304.”

NOTIFICATION PROCEDURE:

Delete entry and replace with “Individuals seeking to determine whether information about themselves is contained in this system of records should address written inquiries to the Privacy Act Office, Headquarters, Defense Logistics Agency, ATTN: DGA, 8725 John J. Kingman Road, Suite 1644, Fort Belvoir, VA 22060-6221.

Requests should contain the individual's full name, Social Security Number (SSN), employee number, and/or station number.”

RECORD ACCESS PROCEDURES:

Delete entry and replace with “Individuals seeking access to information about themselves contained in this system of records should address written inquiries to the Privacy Act Office, Headquarters, Defense Logistics Agency, ATTN: DGA, 8725 John J. Kingman Road, Suite 1644, Fort Belvoir, VA 22060-6221.

Individual should provide their full name, Social Security Number (SSN), employee number, and/or station number.”

CONTESTING RECORD PROCEDURES:

Delete entry and replace with “The DLA rules for accessing records, for contesting contents, and appealing initial agency determinations are contained in 32 CFR part 323, or may be obtained from the Privacy Act Office, Headquarters, Defense Logistics Agency, ATTN: DGA, 875 John J. Kingman Road, Suite 1644, Fort Belvoir, VA 22060-6221.”

RECORD SOURCE CATEGORIES:

Delete entry and replace with “Information is provided by the individual, and training and educational institutions.”

* * * * *

S600.20

SYSTEM NAME:

DLA Fire and Emergency Services Program Records.

SYSTEM LOCATION:

Defense Supply Center Richmond (DSCR), 8000 Jefferson Davis Highway, Richmond, VA 23297-5000.

Defense Supply Center Columbus (DSCC), 3990 East Broad Street, Columbus, OH 43218-3990.

Defense Distribution Depot Susquehanna (DDSP), 2001 Mission Drive, Building 911, New Cumberland, PA 17070-5000.

Defense Distribution Depot San Joaquin (DDJC), 25600 S. Chrisman Road, Tracy, CA 95304.

CATEGORIES OF INDIVIDUALS COVERED BY THE SYSTEM:

Individuals assigned fire and emergency services duties within the Defense Logistics Agency (DLA).

CATEGORIES OF RECORDS IN THE SYSTEM:

Individual's name, Social Security Number (SSN), home address and telephone number, education and training data, professional certifications, employee number, station number, emergency notification data, and driver's license number and expiration date.

AUTHORITY FOR MAINTENANCE OF THE SYSTEM:

5 U.S.C. 301, Departmental Regulations; 10 U.S.C. 136, Under Secretary of Defense for Personnel and Readiness; DoD Instruction 6055.6, DoD Fire and Emergency Services Program; and E.O. 9397 (SSN), as amended.

PURPOSE(S):

Records are used to manage the DLA Fire and Emergency Services Program; to provide data concerning professional qualifications, training requirements, and the health and readiness of the DLA Fire and Emergency Services personnel. Records are used for identification, credentialing and interoperability with organizations beyond DoD and DLA. Records are also used for emergency notification in case of an accident or casualty.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

To Federal and nonfederal schools, academies, and similar institutions for training or certification purposes concerning the professional qualifications, and training requirements of DLA firefighters.

To local fire departments for training or assistance in fire fighting operations.

To local hospitals and medical personnel for emergency treatment in case of accident or casualty.

To the General Services Administration and the U.S. Departments of Interior and Agriculture when responding to forest, acreage, or building fires or emergencies on Federally owned or controlled property.

To the Environmental Protection Agency in situations involving hazardous materials or chemical, biological, radiological, nuclear, and explosives incidents.

To Federal, State, or local disaster relief agencies for the purpose of providing mutual aid.

The DoD `Blanket Routine Uses' set forth at the beginning of DLA's compilation of systems of records notices apply to this system.

POLICIES AND PRACTICES FOR STORING, RETRIEVING, ACCESSING, RETAINING, AND DISPOSING OF RECORDS IN THE SYSTEM:

STORAGE:

Records may be stored on paper and/or on electronic storage media.

RETRIEVABILITY:

Records are retrieved by individual's name, Social Security Number (SSN), employee number, duty station and/or station number.

SAFEGUARDS:

Records are accessible only to the custodian of the records or by persons responsible for servicing the record system in performance of their official duties. Electronic files are deployed on accredited systems with access restricted to authorized users. Records are stored in locked cabinets or rooms and are controlled by personnel screening and computer software. All individuals granted access to this system of records have received Privacy Act training.

RETENTION AND DISPOSAL:

Disposition pending (until the National Archives and Records Administration has approved the disposition of these records, treat them as permanent).

SYSTEM MANAGER(S) AND ADDRESS:

Chief of Fire and Emergency Services, Defense Supply Center Richmond (DSCR), 8000 Jefferson Davis Highway, Richmond, VA 23297-5000.

Chief of Fire and Emergency Services, Defense Supply Center Columbus (DSCC), 3990 East Broad Street, Columbus, OH 43218-3990.

Chief of Fire and Emergency Services, Defense Distribution Depot Susquehanna (DDSP), 2001 Mission Drive, Building 911, New Cumberland, PA 17070-5000.

Chief of Fire and Emergency Services, Defense Distribution Depot San Joaquin (DDJC), 25600 S. Chrisman Road, Tracy, CA 95304.

NOTIFICATION PROCEDURE:

Individuals seeking to determine whether information about themselves is contained in this system of records should address written inquiries to the Privacy Act Office, Headquarters, Defense Logistics Agency, ATTN: DGA, 8725 John J. Kingman Road, Suite 1644, Fort Belvoir, VA 22060-6221.

Requests should contain the individual's full name, Social Security Number (SSN), employee number, and/or station number.

RECORD ACCESS PROCEDURES:

Individuals seeking access to information about themselves contained in this system of records should address written inquiries to the Privacy Act Office, Headquarters, Defense Logistics Agency, ATTN: DGA, 8725 John J. Kingman Road, Suite 1644, Fort Belvoir, VA 22060-6221.

Individual should provide their full name, Social Security Number (SSN), employee number, and/or station number.

CONTESTING RECORD PROCEDURES:

The DLA rules for accessing records, for contesting contents, and appealing initial agency determinations are contained in 32 CFR part 323, or may be obtained from the Privacy Act Office, Headquarters, Defense Logistics Agency, ATTN: DGA, 875 John J. Kingman Road, Suite 1644, Fort Belvoir, VA 22060-6221.

RECORD SOURCE CATEGORIES:

Information is provided by the individual, and training and educational institutions.

EXEMPTIONS CLAIMED FOR THE SYSTEM:

None.

[FR Doc. 2010-10840 Filed 5-6-10; 8:45 am]

BILLING CODE 5001-06-P